SOCIAL SECURITY ADMINISTRATION

[Docket No. SSA-2007-0082]

Rescission of Social Security Ruling 93-2p; Policy Interpretation Ruling; Titles II and XVI: Evaluation of Human Immunodeficiency Virus Infection

AGENCY: Social Security Administration.

ACTION: Notice of rescission of Social Security Ruling, 93-2p.

SUMMARY: In accordance with 20 CFR 402.35(b)(1), the Acting Commissioner of Social Security gives notice of the rescission of Social Security Ruling (SSR) 93-2p.

DATES: Effective Date: This rescission is effective March 15, 2017.

FOR FURTHER INFORMATION CONTACT: Cheryl A. Williams, Office of Disability Policy, Office of Medical Policy, Social Security Administration, 6401 Security Boulevard, Baltimore, MD 21235-6401, (410) 966-4163. For information on eligibility or filing for benefits, call our national toll-free number 1-800-772-1213, or TTY 1-800-325-0778, or visit our Internet site, Social Security online, at http://www.socialsecurity.gov.

SUPPLEMENTARY INFORMATION: Through SSRs, we make available to the public precedential decisions relating to the Federal old-age, survivors, disability, supplemental security income, and special veterans benefits programs. We may base SSRs on determinations or decisions made at all levels of administrative adjudication, Federal court decisions, Commissioner's decisions, opinions of the Office of General Counsel, or other interpretations of the law and regulations.

SSR 93-2p provides guidance about evaluating duration in cases meeting or equaling the human immunodeficiency virus (HIV) infection listings. It instructs that with acceptable documentation of HIV infection as described in the introductory text to the listings in the Immune body system, an individual who has an impairment that meets or equals one of the criteria in the listings for HIV infection has an impairment that is considered permanent or expected to result in death. In these cases, a separate durational finding is not required, and evidence showing that the impairment has lasted or expected to last for a continuous period of at least 12 months is unnecessary.

On December 2, 2016, we published a final rule, Revised Medical Criteria for Evaluating Human Immunodeficiency Virus (HIV) Infection and for Evaluating Functional Limitations in Immune System Disorders, in the Federal Register at 81 FR 86915. The final rule revises the listing criteria under which we evaluate impairments related to HIV infection (14.11 for adults and 114.11 for children, formerly 14.08 and 114.08, respectively). These updates reflect the advances in medical treatment of and expected outcomes for people with HIV infection since we last revised our listings for HIV infection. At the time we originally published SSR 93-2p, medical outcomes for individuals infected with HIV were sufficiently unfavorable that we could reasonably assume that all impairments meeting or equaling the HIV listings either were permanent or would result in death. However, due to medical advances and the resulting updates to the criteria in the listings, this is no longer a proper assumption for us to make. The final rule became effective January 17, 2017. Id., at 86915. Consequently, we are rescinding SSR 93-2p as obsolete.

(Catalog of Federal Domestic Assistance Programs Nos. 96.001, Social Security—Disability Insurance; 96.002, Social Security—Retirement Insurance; 96.004, Social Security—Survivors Insurance; 96.006—Supplemental Security Income)

Nancy A. Berryhill,
Acting Commissioner of Social Security.

[FR Doc. 2017-05111 Filed 3-14-17; 8:45 am]

BILLING CODE 4191-02-P